DEPARTMENT OF DEFENSE

Department of the Army

Notice of Availability of Real Property for Public Health Purposes, Including Research, at the Former Walter Reed Army Medical Center

AGENCY: Department of the Army, DoD.

ACTION: Notice of availability of real property.

SUMMARY: Notice is hereby given that a portion of the former Walter Reed Army Medical Center (WRAMC), located at Alaska Avenue NW., and Fern Street NW., Washington, DC is available for conveyance to authorized recipients for the purpose of permitting the recipient to use the property for the protection of public health, including research. Interested authorized recipients must submit a written notice. The written notice shall disclose the contemplated use of the property, which must be associated with protection of public health, including research. Upon receipt of a written notice from an authorized recipient, the Army will promptly provide the interested party an application package and establish a date for submission of a formal application.

DATES: Interested authorized recipients must submit a written notice, within 30 days of publication of this notice in the Federal Register.

ADDRESSES: Submit written notice to the Chief, Real Estate Division, Baltimore District, U.S. Army Corps of Engineers, Mailing address: P.O. Box 1715, Attn: CENAB-RE-M, Baltimore, MD 21201-1715, Street address: 10 South Howard Street, Room 7600, Attn: CENAB-RE-M, Baltimore, MD 21201.

FOR FURTHER INFORMATION CONTACT: More information about the property, including arrangements to tour the property, may be obtained by contacting Mr. Markus Craig, ACSIM BRAC Division, 2530 Crystal Drive, Room 5136C, Arlington, VA 22202, telephone (703)545-2474, or by email Markus.a.craig.civ@mail.mil.

SUPPLEMENTARY INFORMATION: The property consists of approximately 11 acres, more or less, improved with buildings and structures as follows:

—Building 3, parking structure, approximately 341,000 gross square feet (gsf)

—Building 52, former warehouse and outpatient clinic, approximately 31,700 gsf

—Building 53, former post theater, approximately 17,400 gsf

—Building 54, former Armed Forces Institute of Pathology and Military Medical Museum, approximately 400,000 gsf

—Offsite utility infrastructure serving the site together with access and utility easements as necessary.

The property is available for disposal under the authority of section 2834(b) of the National Defense Authorization Act for Fiscal Year 2015, Public Law 113-291. Authorized recipients are the District of Columbia, a political subdivision or instrumentality of the District of Columbia, a tax-supported medical institution, or a hospital or similar institution not operated for profit that has been exempt from taxation under section 501(c) of the Internal Revenue Code of 1986. The Army intends to convey all of the Government's right, title and interest in the property by quitclaim deed; disposal of a lesser interest will not be considered.

The property is offered “AS IS” and “WHERE IS” without representation, warranty, or guaranty as to quantity, title, character, condition, size, or kind, or that the same is in condition or fit to be used for the purpose for which intended. The buildings contain asbestos and lead based paint. The property has been determined to be suitable for transfer in accordance with the Comprehensive Environmental Response, Compensation & Liability Act (CERCLA). All necessary remediation under CERCLA of hazardous substance releases has been taken.

Buildings 52, 53 and 54 are considered contributing elements to the Walter Reed Historic District as nominated to both the National Register and District of Columbia Historic Listings. Building 54 is considered individually eligible for listing due to its significance as a cold war relic. Applicable preservation laws apply. The District of Columbia Historic Preservation Act (DC Code §§ 6-1101 et seq.) requires the Mayor's Office to approve permits to demolish, subdivide, or alter a historic landmark or a building in a historic district or to construct a new structure on the site of a landmark or in a historic district. The property will be conveyed without consideration; however, the recipient shall pay the costs incurred by the Army to carry out this conveyance including survey costs, costs for environmental documentation (but not costs for Army environmental remediation of the property), and any other Army administrative costs related to the conveyance.

Dated: June 4, 2015.
Paul D. Cramer,
Deputy Assistant Secretary of the Army, (Installations, Housing & Partnerships).

[FR Doc. 2015-15347 Filed 6-22-15; 8:45 am]

BILLING CODE 3710-08-P